FEDERAL COMMUNICATIONS COMMISSION

[FRS 17110]

Privacy Act of 1974; Matching Program

AGENCY: Federal Communications Commission.

ACTION: Notice of Establishment of Two Matching Programs.

SUMMARY: In accordance with the Privacy Act of 1974, as amended (“Privacy Act”), this document announces the establishment of computer matching programs the Federal Communications Commission (“FCC” or “Commission” or “Agency”) and the Universal Service Administrative Company (USAC) will conduct with the State of Florida's Department of Children and Families (DCF), Office of Economic Self-Sufficiency (Florida), and the State of Minnesota's Department of Human Services (DHS) (Minnesota). (“Agencies”). The purpose of these two matching programs is to verify the eligibility of applicants to and subscribers of the Universal Service Fund (USF) Lifeline program, which is administered by USAC under the direction of the FCC. More information about these programs is provided in the SUPPLEMENTARY INFORMATION section below.

DATES: Written comments are due on or before November 4, 2020. This computer matching program will commence on November 4, 2020, and will conclude on May 5, 2022.

ADDRESSES: Send comments to Mr. Leslie F. Smith, Privacy Manager, Information Technology (IT), FCC, Washington, DC 20554, or to Leslie.Smith@fcc.gov or Privacy@fcc.gov.

FOR FURTHER INFORMATION CONTACT: Mr. Leslie F. Smith, (202) 418-0217, or Leslie.Smith@fcc.gov or Privacy@fcc.gov.

SUPPLEMENTARY INFORMATION:

The Lifeline program provides support for discounted broadband and voice services to low-income consumers. Lifeline is administered by the Universal Service Administrative Company (USAC) under FCC direction. Consumers qualify for Lifeline through proof of income or participation in a qualifying program, such as Medicaid, the Supplemental Nutritional Assistance Program (SNAP), Federal Public Housing Assistance, Supplemental Security Income (SSI), Veterans and Survivors Pension Benefit, and/or various Tribal-specific federal assistance programs. In a Report and Order adopted on March 31, 2016, the Commission ordered USAC to create a National Lifeline Eligibility Verifier (“National Verifier”), including the National Lifeline Eligibility Database (LED), that would match data about Lifeline applicants and subscribers with other data sources to verify the eligibility of an applicant or subscriber. The Commission found that the National Verifier would reduce compliance costs for Lifeline service providers, improve service for Lifeline subscribers, and reduce waste, fraud, and abuse in the program. The purpose of these particular matching programs is to verify Lifeline eligibility by establishing that applicants or subscribers in Florida and Minnesota are enrolled in the SNAP and/or Medicaid programs.

Participating Non-Federal Agencies

• Florida Department of Children and Families (DCF), Office of Economic Self-Sufficiency; and

• Minnesota Department of Human Services (DHS).

Authority for Conducting the Matching Program

47 U.S.C. 254; 47 CFR 54.400 et seq.; Lifeline and Link Up Reform and Modernization, et al., Third Report and Order, Further Report and Order, and Order on Reconsideration, 31 FCC Rcd 3962, 4006-21, paras. 126-66 (2016) (2016 Lifeline Modernization Order).

Purpose(s)

In the 2016 Lifeline Modernization Order, the FCC required USAC to develop and operate the National Verifier to improve efficiency and reduce waste, fraud, and abuse in the Lifeline program. The stated purpose of the National Verifier is “to increase the integrity and improve the performance of the Lifeline program for the benefit of a variety of Lifeline participants, including Lifeline providers, subscribers, states, community-based organizations, USAC, and the Commission.” 31 FCC Rcd 3962, 4006, para. 126. To help determine whether Lifeline applicants and subscribers are eligible for Lifeline benefits, the Order contemplates that the USAC-operated LED will communicate with information systems and databases operated by other Federal and State agencies. Id. at 4011-2, paras. 135-7.

Categories of Individuals

The categories of individuals whose information is involved in the two matching programs include, but are not limited to, those individuals (residing in a single household) who have applied for Lifeline benefits; are currently receiving Lifeline benefits; are individuals who enable another individual in their household to qualify for Lifeline benefits; are minors whose status qualifies a parent or guardian for Lifeline benefits; are individuals who have received Lifeline benefits; or are individuals acting on behalf of an eligible telecommunications carrier (ETC) who have enrolled individuals in the Lifeline program.

Categories of Records

The categories of records involved in the two matching programs include, but are not limited to, the last four digits of the Lifeline applicant's Social Security Number, date of birth, and first name and last name. The National Verifier will transfer these data elements to the Florida DCF and the Minnesota DHS, which will respond either “yes” or “no” that the individual is enrolled in a Lifeline-qualifying assistance program: State of Florida's SNAP and Medicaid and State of Minnesota's SNAP and Medicaid.

System(s) of Records

The USAC records shared as part of this matching program reside in the Lifeline system of records, FCC/WCB-1, Lifeline Program, a notice of which the FCC published at 82 FR 38,686 (Aug. 15, 2017) and which became effective on September 14, 2017.

Federal Communications Commission.
Cecilia Sigmund,
Federal Register Liaison Officer, Office of the Secretary.

[FR Doc. 2020-21896 Filed 10-2-20; 8:45 am]

BILLING CODE 6712-01-P